DEPARTMENT OF DEFENSE

Defense Intelligence Agency

[DOD-2006-OS-0118]

Privacy Act of 1974; Systems of Records

AGENCY: Defense Intelligence Agency, DoD.

ACTION: Notice to amend a system of records.

SUMMARY: The Defense Intelligence Agency is amending a system of records notice to its existing inventory of record systems subject to the Privacy Act of 1974 (5 U.S.C. 552a), as amended.

DATES: This proposed action will be effective without further notice on July 5, 2006 unless comments are received that would result in a contrary determination.

ADDRESSES: Freedom of Information Office, Defense Intelligence Agency (DAN-1A), 200 MacDill Blvd., Washington, DC 20340-5100.

FOR FURTHER INFORMATION CONTACT: Ms. Theresa Lowery at (202) 231-1193.

SUPPLEMENTARY INFORMATION: The Defense Intelligence Agency notices for systems of records subject to the Privacy Act of 1974 (5 U.S.C. 552a), as amended, have been published in the Federal Register and are available from the address above.

The specific changes to the record system being amended are set forth below followed by the notice, as amended, published in its entirety. The proposed amendment is not within the purview of subsection (r) of the Privacy Act of 1974, (5 U.S.C. 552a), as amended, which requires the submission of a new or altered system report.

Dated: May 26, 2006.
C.R. Choate,
Alternate OSD Federal Register Liaison Officer, Department of Defense.

LDIA 0008

System name:

Vehicle Registration Information Files (February 22, 1993, 58 FR 10613).

Changes:

* * * * *

Categories of Individuals Covered by the System:

Delete “civilian contractors” and replace with “military affiliated personnel”. Delete “parking permit” and replace with “decal”.

Categories of Records in the System:

Delete “home address,” and “vehicle identification,” and replace with “license tag number.”

* * * * *

Purpose(s):

Delete “parking permits” and replace with “decals”.

* * * * *

Storage:

Delete “on a microcomputer” and replace with “electronically in a database”.

Retrievability:

Delete entry and replace with: “Name, Social Security Number, decal number, or state license tag”.

Safeguards:

Delete entry and replace with: “Access to records in this system are limited to personnel authorized to handle vehicle registrations and issue parking permits. Building access is controlled and office door is locked during non-duty hours. Electronic records are maintained on a classified and password protected system.”

Retention and Disposal:

Delete last sentence and replace with: “In the case of automated files, they are deleted from the database.”

System Manager(s) and Address:

Delete entry and replace with: “Building Manager, Building Services Branch, Defense Intelligence Agency, Washington, DC 20340-5100.”

Notification Procedure:

Delete entry and replace with: “Individuals seeking to determine whether information about themselves is contained in this system of records should address written inquiries to the Freedom of Information Act Office (DAN-1A/FOIA), Defense Intelligence Agency, 200 MacDill Blvd., Washington, DC 20340-5100.

Individuals should provide their full name, current address, telephone number and Social Security Number.”

Record Access Procedures:

Delete entry and replace with: “Individuals seeking access to information about themselves contained in this system should address written inquiries to the Freedom of Information Act Office (SVI-1 DAN-1A/FOIA), Defense Intelligence Agency, 200 MacDill Blvd., Washington, DC 20340-5100.

Individuals should provide their full name, current address, telephone number and Social Security Number.”

Contesting Record Procedures:

Delete entry and replace with: “DIA's rules for accessing records, for contesting contents and appealing initial agency determinations are published in DIA Regulation 12-12 ‘Defense Intelligence Agency Privacy Program’; 32 CFR part 319—Defense Intelligence Agency Privacy Program; or may be obtained from the system manager.”

* * * * *

LDIA 0008

System name:

Vehicle Registration Information Files.

System location:

Defense Intelligence Agency, Washington, DC 20340-5100.

Categories of individuals covered by the system:

DIA employees and military affiliated personnel who register vehicles in order to gain entrance to DoD installations and those who may apply for a decal.

Categories of records in the system:

Individual's name, Social Security Number, license tag number, office symbol, work telephone number, and related information.

Authority for maintenance of the system:

The Federal Property and Administrative Services Act of 1949; 10 U.S.C. 8012; 44 U.S.C. 3101; and E.O. 9397.

Purposes(s):

To provide a record for control of privately-owned vehicles which are authorized to operate on DoD installations; to assign decals to eligible military and civilian personnel and to maintain a record of decals and vehicle registration data; to identify vehicles and their owners in the event of an emergency or traffic problem.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The “Blanket Routine Uses” set forth at the beginning of the DIA's compilation of systems of records notices apply to this system.

Policies and practices for storing, retrieving, accessing, retaining, and disposing of records in the system:

Storage:

Application cards, forms, and accountability logs. Data is also stored and maintained electronically in a database.

Retrievability:

Name, Social Security Number, decal number, or state license tag.

Safeguards:

Access to records in this system are limited to personnel authorized to handle vehicle registrations and issue parking permits. Building access is controlled and office door is locked during non-duty hours. Electronic records are maintained on a classified and password protected system.

Retention and disposal:

Paper records are maintained for one year after departure or loss of eligibility and then destroyed. In the case of automated files, they are deleted from the database.

System manager(s) and address:

Building Manager, Building Services Branch, Defense Intelligence Agency, Washington, DC 20340-5100.

Notification procedure:

Individuals seeking to determine whether information about themselves is contained in this system of records should address written inquiries to the Freedom of Information Act Office DAN-1A/FOIA), Defense Intelligence Agency, 200 MacDill Blvd., Washington, DC 20340-5100.

Individuals should provide their full name, current address, telephone number and Social Security Number.

Record access procedures:

Individuals seeking access to information about themselves contained in this system should address written inquiries to the Freedom of Information Act Office (SVI-1 DAN-1A/FOIA), Defense Intelligence Agency, 200 MacDill Blvd., Washington, DC 20340-5100.

Individuals should provide their full name, current address, telephone number and Social Security Number.

Contesting record procedures:

DIA's rules for accessing records, for contesting contents and appealing initial agency determinations are published in DIA Regulation 12-12 “Defense Intelligence Agency Privacy Program”; 32 CFR part 319—Defense Intelligence Agency Privacy Program; or may be obtained from the system manager.

Record source categories:

Individual concerned, agency officials, Ambassadors, educational institutions, parent service of individual and immediate supervisor on station, and other Government officials.

Exemptions claimed for the system:

None.

[FR Doc. 06-5093 Filed 6-2-06; 8:45 am]

BILLING CODE 5001-06-M